DEPARTMENT OF TRANSPORTATION

Federal Aviation Administration

14 CFR Part 39

[Docket No. FAA-2011-0258; Directorate Identifier 2010-NM-191-AD]

RIN 2120-AA64

Airworthiness Directives; The Boeing Company

AGENCY: Federal Aviation Administration (FAA), DOT.

ACTION: Supplemental notice of proposed rulemaking (NPRM); reopening of comment period.

SUMMARY: We are revising an earlier proposed airworthiness directive (AD) for certain The Boeing Company Model 737-600, -700, -700C, -800, -900, and -900ER series airplanes. That NPRM proposed to require, for certain airplanes, installing two warning level indicator lights on each of the P1-3 and P3-1 instrument panels in the flight compartment. That NPRM also proposed to require revising the airplane flight manual to remove certain requirements of previous AD actions, and to advise the flightcrew of the following changes: revised non-normal procedures to use when a cabin altitude warning or rapid depressurization occurs, and revised cabin pressurization procedures for normal operations. That NPRM was prompted by a design change in the cabin altitude warning system that would address the identified unsafe condition. This action revises that NPRM by adding airplanes to the applicability; adding airplanes to the installation requirement, including, for certain airplanes, replacing the existing P5-16 and P5-10 panels; and, for certain airplanes, replacing the basic P5-16 panel with a high altitude landing P5-16 panel. We are proposing this supplemental NPRM to prevent failure of the flightcrew to recognize and react to a valid cabin altitude warning horn, which could result in incapacitation of the flightcrew due to hypoxia (lack of oxygen in the body), and consequent loss of control of the airplane. Since these actions impose an additional burden over that proposed in the NPRM, we are reopening the comment period to allow the public the chance to comment on these proposed changes.

DATES: We must receive comments on this supplemental NPRM by October 11, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Boeing Commercial Airplanes, Attention: Data & Services Management, P.O. Box 3707, MC 2H-65, Seattle, Washington 98124-2207; telephone 206-544-5000, extension 1, fax 206-766-5680; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Jeffrey W. Palmer, Aerospace Engineer, Systems and Equipment Branch, ANM-130S, FAA, Seattle Aircraft Certification Office, 1601 Lind Avenue SW., Renton, Washington 98057-3356; phone: (425) 917-6472; fax: (425) 917-6590; email: jeffrey.w.palmer@faa.gov.

SUPPLEMENTARY INFORMATION:

Comments Invited

We invite you to send any written relevant data, views, or arguments about this proposed AD. Send your comments to an address listed under the ADDRESSES section. Include “Docket No. FAA-2011-0258; Directorate Identifier 2010-NM-191-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to include an AD that would apply to certain The Boeing Company Model 737-600, -700, -700C, -800, -900, and -900ER series airplanes. That NPRM published in the Federal Register on March 24, 2011 (76 FR 16579). That NPRM proposed to require installing two warning level indicator lights on each of the P1-3 and P3-1 instrument panels in the flight compartment. That NPRM also proposed to require revising the airplane flight manual to remove certain requirements of previous AD actions, and to advise the flightcrew of the following changes: Revised non-normal procedures to use when a cabin altitude warning or rapid depressurization occurs, and revised cabin pressurization procedures for normal operations.

Actions Since Previous NPRM (76 FR 16579, March 24, 2011) Was Issued

Since we issued the previous NPRM (76 FR 16579, March 24, 2011), we have determined that additional airplanes are affected by the identified unsafe condition, the installation of two warning level indicator lights must be done on additional airplanes (i.e., airplanes with the high altitude landing configuration of the cabin altitude warning system), and for certain airplanes, a replacement of the basic P5-16 panel with a high altitude landing P5-16 panel must be done. And for certain other airplanes replacement of the existing P5-16 and P5-10 panels must be done.

Revised Service Information

We have reviewed Boeing Alert Service Bulletin 737-31A1332, Revision 3, dated March 28, 2012. The previous NPRM (76 FR 16579, March 24, 2011), referred to Boeing Alert Service Bulletin 737-31A1332, Revision 1, dated June 24, 2010, as the appropriate source of service information for doing the proposed actions. Boeing has revised this service information to add airplanes to the effectivity (including the airplanes that were identified in table 1 of the previous NPRM) and clarify certain actions and figures. We have changed paragraph (c) of this supplemental NPRM to refer to the airplanes identified in Boeing Alert Service Bulletin 737-31A1332, Revision 3, dated March 28, 2012. We have also included Revision 3 as the appropriate source of service information for accomplishing the required actions of this supplemental NPRM. We have also included credit for actions accomplished using Boeing Alert Service Bulletin 737-31A1332, Revision 1, dated June 24, 2010; or Boeing Alert Service Bulletin 737-31A1332, Revision 2, dated August 18, 2011; provided certain actions have been done on certain airplanes.

Boeing Alert Service Bulletin 737-31A1332, Revision 3, dated March 28, 2012, includes concurrent accomplishment of Boeing Service Bulletin 737-21-1171, dated February 12, 2009, for certain airplanes. Boeing Service Bulletin 737-21-1171, dated February 12, 2009, describes procedures for replacing the basic P5-16 panel with a high altitude landing P5-16 panel.

Related Rulemaking

On August 7, 2009, we issued AD 2009-16-07, Amendment 39-15990 (74 FR 41607, August 18, 2009), for certain Model 737-600, -700, -700C, -800, and -900 series airplanes. That AD requires replacing brackets that hold the P5 panel to the airplane structure, the standby compass bracket assembly, the generator drive and standby power module, and the air conditioning module. That AD also requires among other actions, inspecting for wire length and for damage of the connectors and the wire bundles and doing applicable corrective actions if necessary. That AD also requires an additional operational test of the P5-14 panel.

For airplanes on which the modification specified in Boeing Alert Service Bulletin 737-31A1332, Revision 1, dated June 24, 2010; or Boeing Alert Service Bulletin 737-31A1332, Revision 2, dated August 18, 2011; was done, those actions could result in non-compliance with the actions required by AD 2009-16-07, Amendment 39-15990 (74 FR 41607, August 18, 2009). For airplanes on which the modification in Boeing Alert Service Bulletin 737-31A1332, Revision 3, dated March 28, 2012, was done, those actions comply with the actions required by AD 2009-16-07. In light of these factors, operators should ensure compliance with AD 2009-16-07.

Comments

We gave the public the opportunity to comment on the previous NPRM (76 FR 16579, March 24, 2011). The following presents the comments received on the NPRM and the FAA's response to each comment.

Support for NPRM (76 FR 16579, March 24, 2011)

Air Line Pilot's Association International supports the previous NPRM (76 FR 16579, March 24, 2011).

Request To Extend Compliance Time

American Airlines (AAL) stated that it started a program for accomplishing the actions specified in Boeing Alert Service Bulletin 737-31A1332, Revision 1, dated June 24, 2010. AAL added that adoption of a 36-month accomplishment schedule will result in six airplanes on which the actions cannot be completed during its normal heavy maintenance schedule; therefore, a special higher-cost visit will have to be scheduled for those airplanes. AAL noted that the current flight manual procedures will remain in place until all airplanes are modified. We infer that AAL is asking that the compliance time be extended to coincide with its normal heavy maintenance schedule.

We partially agree with the commenter.

We agree with the commenter's intention to keep its current flight manual procedures in place until all airplanes in its fleet have been modified. This will maintain continuous standardization of operating procedures across the operator's fleet, allowing operation of all airplanes in its fleet under one common set of operating procedures at all times. Since the previous NPRM (76 FR 16579, March 24, 2011) proposed to require airplane flight manual changes before further flight after accomplishing the required airplane modification, increasing the compliance time requirement for the airplane flight manual changes is necessary in order to allow operators the ability to provide this standardization of operating procedures. We have determined that since all airplanes are required to be modified within 36 months, those airplanes must also have the required airplane flight manual changes incorporated within the same time frame, but not before the required airplane modifications have been accomplished. We have increased the compliance time for the airplane flight manual revision required by paragraph (j) of this supplemental NPRM to within 36 months after the effective date of this AD and after doing the airplane modifications required by paragraph (g) of this AD.

We do not agree to increase the compliance time for the modification. We acknowledge that in some cases it may be necessary to accomplish AD requirements outside of normal maintenance schedules and that additional cost can be incurred. However, we performed a risk assessment which indicates that a 36-month compliance time for accomplishing the modification is the longest acceptable compliance time allowed, in order to provide continued operational safety. In developing an appropriate compliance time, we considered the safety implications and normal maintenance schedules for timely accomplishment of the actions. In light of this, we have determined that a 36-month interval is appropriate. Under the provisions of paragraph (m)(1) of the supplemental NPRM, we will consider requests for approval of an extension of the compliance time if sufficient data are submitted to substantiate that the extension would provide an acceptable level of safety. We have made no change to the compliance time requirement in paragraph (g) of the supplemental NPRM.

Delta Airlines (DAL) asked that the previous NPRM (76 FR 16579, March 24, 2011) include a provision specifying that airplanes on which Boeing Alert Service Bulletin 737-31A1332, dated January 7, 2010, has been done are in compliance with the proposed requirements. DAL stated that Boeing Alert Service Bulletin 737-31A1332, Revision 1, dated June 24, 2010, indicates that no more work is necessary on airplanes changed in accordance with the original issue of that service bulletin. DAL added that although it has not done the actions in Boeing Alert Service Bulletin 737-31A1332, dated January 7, 2010, there may be other operators that have. DAL suggested that the previous NPRM include a paragraph to address those airplanes.

We do not agree with the commenter. Boeing Alert Service Bulletin 737-31A1332, dated January 7, 2010, was only approved for use on one airplane to validate the Accomplishment Instructions. That validation revealed that extensive corrections to the instructions were necessary to accomplish the modification; therefore, it did not receive FAA approval for fleetwide use. In light of this, no credit is allowed for prior accomplishment of the actions required by this supplemental NPRM using Boeing Alert Service Bulletin 737-31A1332, dated January 7, 2010. If any operators incorporated the actions specified in Boeing Alert Service Bulletin 737-31A1332, dated January 7, 2010, affected operators may request an alternative method of compliance (AMOC) under the provisions of paragraph (m)(1) of this supplemental NPRM by submitting data substantiating that the change would provide an acceptable level of safety. We have not changed the supplemental NPRM in this regard.

Request To Clarify Certain Notes in the Service Information

DAL asked that we clarify the instructions in certain notes specified in Boeing Alert Service Bulletin 737-31A1332, Revision 1, dated June 24, 2010. DAL stated that paragraph (g) of the previous NPRM (76 FR 16579, March 24, 2011) requires operators to install warning level indicator lights in accordance with the Accomplishment Instructions of Boeing Alert Service Bulletin 737-31A1332, Revision 1, dated June 24, 2010. DAL added that Figure 1, Note (b), and Figure 2, Note (b) of that service bulletin specify that operators can get the new part by reworking the existing part; Figure 3, Notes (a) and (b) also specify reworking the panels. DAL noted that these figures specify that the rework is done by using the procedures in the referenced BAE Systems service bulletins. DAL added that Figure 1, Note (b) states “You can get the new part by reworking the existing part as given in BAE Systems SB 233A2221-31-01, BAE Systems SB 233A2221-31-02, and BAE Systems SB 233A2221-31-03.” DAL stated that rework of the panel in accordance with only one of the three BAE Systems service bulletins is required, based on the number of the panel to be modified. DAL noted that it is not possible to accomplish all three of the BAE Systems service bulletins on one panel since each service bulletin is applicable to a unique set of part numbers.

We do not agree with the commenter. The manufacturer has not identified the dash level of the part numbers in the subject notes of the referenced figures specified in Boeing Alert Service Bulletin 737-31A1332, Revision 1, dated June 24, 2010. The intent of the notes is to allow rework of the applicable dash number part according to the applicable BAE component service bulletin, not by using all three BAE component service bulletins. We have made no change to the supplemental NPRM in this regard.

Request To Clarify Component Maintenance Manual (CMM) Reference

DAL asked that we clarify the CMM reference specified in paragraph 1.K. “Publications Affected” of Boeing Alert Service Bulletin 737-31A1332, Revision 1, dated June 24, 2010. DAL stated that this section refers to CMM 31-53; however, the correct references should be CMM 31-11-30 and CMM 31-11-59. DAL notified Boeing of this discrepancy; Boeing agreed that the reference in this service bulletin is incorrect and indicated that it would be corrected in a future revision.

We acknowledge the commenter's concern; however, the list of publications does not affect the actions required by the AD. In addition, Boeing Alert Service Bulletin 737-31A1332, Revision 3, dated March 28, 2012, changed note (c) in Figures 1 and 2 to provide the correct BAE Systems CMM references. We have made no change to the supplemental NPRM in this regard.

Request To Include Contact Information for BAE Systems

DAL asked that we include contact information in the AD so operators can obtain the applicable BAE Systems service bulletins referenced in Boeing Alert Service Bulletin 737-31A1332, Revision 1, dated June 24, 2010, for reworking the existing part. DAL noted that the BAE service bulletins contain procedures for reworking the existing P1-3 and P3-1 panels. DAL added that paragraph (m) of the previous NPRM (76 FR 16579, March 24, 2011) identifies Boeing contact information, but does not include BAE Systems contact information.

We do not agree with the commenter. The BAE Systems service bulletins are not referred to in this supplemental NPRM; therefore, the BAE Systems contact information is not included. Operators should contact Boeing for any additional documents referred to in Boeing Alert Service Bulletin 737-31A1332, Revision 1, dated June 24, 2010; Revision 2, dated August 18, 2011, or Revision 3, dated March 28, 2012. We have made no change to the supplemental NPRM in this regard.

Request To Remove Certain Language in the Limitations Section of the AFM

Boeing asked that we change paragraph (h)(3)(ii) of the previous NPRM (76 FR 16579, March 24, 2011), paragraph (j)(3)(ii) of this supplemental NPRM, to remove the language “For normal operations, the pressurization mode selector should be in AUTO prior to takeoff.” Boeing stated that this step is already included in the Boeing Flight Crew Operations Manual Preflight Checklist for the First Officer.

We do not agree with the commenter. We find that there is relevant accident history associated with incorrect setting of this specific switch; therefore, continued emphasis on the proper positioning of the switch prior to takeoff is required in the airplane flight manual. We have made no change to the supplemental NPRM in this regard.

Request To Increase Work-Hours

AAL asked that we increase the work hours specified in the previous NPRM (76 FR 16579, March 24, 2011). AAL stated that an evaluation of the referenced service information on its prototype airplane resulted in a work-hour requirement of 2.5 times greater than the 64 hours specified in the previous NPRM. AAL added that a better estimate for completing the entire modification would be 140 work-hours.

We do not agree with the commenter. The cost information in this supplemental NPRM describes only the direct costs of the specific required actions. Based on the best data available, the manufacturer provided the number of work hours necessary to do the required actions. This number represents the time necessary to perform only the actions actually required by this supplemental NPRM. We recognize that, in doing the actions required by an AD, operators might incur incidental costs in addition to the direct costs. But the cost analysis in AD rulemaking actions typically does not include incidental costs such as the time necessary for planning, airplane down time, or time necessitated by other administrative actions. Those incidental costs, which might vary significantly among operators, are almost impossible to calculate. We have made no change to the supplemental NPRM in this regard.

FAA's Determination

We are proposing this supplemental NPRM because we evaluated all the relevant information and determined the unsafe condition described previously is likely to exist or develop in other products of the same type design. Certain changes described above expand the scope of the original NPRM (76 FR 16579, March 24, 2011). As a result, we have determined that it is necessary to reopen the comment period to provide additional opportunity for the public to comment on this supplemental NPRM.

Proposed Requirements of the Supplemental NPRM

This supplemental NPRM would require accomplishing the actions specified in the service information described previously.

Costs of Compliance

We estimate that this proposed AD would affect 870 airplanes of U.S. registry. The following table provides the estimated costs for U.S. operators to comply with this proposed AD.

Table—Estimated Costs
Action | Work hours | Average labor rate per hour | Parts | Cost per product | Number of U.S.-registered airplanes | Fleet cost
Installation of warning indicator lights | Between 34 and 84 | $85 | Between $2,172 and $5,238 | Between $5,062 and $12,378 | 870 | Between $4,403,940 and $10,768,860.
AFM revision | 2 | 85 | $0 | $170 | 870 | $147,900.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2011-0258; Directorate Identifier 2010-NM-191-AD.

(a) Comments Due Date

We must receive comments by October 11, 2012.

(b) Affected ADs

This AD affects the ADs identified in paragraphs (b)(1), (b)(2), and (b)(3) of this AD. This AD does not supersede the requirements of these ADs.

(1) AD 2003-14-08, Amendment 39-13227 (68 FR 41519, July 14, 2003).

(2) AD 2006-13-13, Amendment 39-14666 (71 FR 35781, June 22, 2006).

(3) AD 2008-23-07, Amendment 39-15728 (73 FR 66512, November 10, 2008).

(c) Applicability

This AD applies to The Boeing Company Model 737-600, -700, -700C, -800, -900, and -900ER series airplanes, certificated in any category; identified in Boeing Alert Service Bulletin 737-31A1332, Revision 3, dated March 28, 2012.

(d) Subject

Air Transport Association (ATA) of America Code 31, Instruments.

(e) Unsafe Condition

This AD was prompted by a design change in the cabin altitude warning system that would address the identified unsafe condition. We are issuing this AD to prevent failure of the flightcrew to recognize and react to a valid cabin altitude warning horn, which could result in incapacitation of the flightcrew due to hypoxia (lack of oxygen in the body) and consequent loss of control of the airplane.

(f) Compliance

Comply with this AD within the compliance times specified, unless already done.

(g) Installation

Within 36 months after the effective date of this AD, install two warning level indicator lights on each of the P1-3 and P3-1 instrument panels in the flight compartment, and as applicable, replace the existing P5-16 and P5-10 panels, in accordance with the Accomplishment Instructions of Boeing Alert Service Bulletin 737-31A1332, Revision 3, dated March 28, 2012.

(h) Concurrent Requirements

For Group 21, Configuration 2 airplanes, as identified in Boeing Alert Service Bulletin 737-31A1332, Revision 3, dated March 28, 2012: Prior to or concurrently with doing the actions required by paragraph (g) of this AD, replace the basic P5-16 panel with a high altitude landing P5-16 panel, in accordance with the Accomplishment Instructions of Boeing Service Bulletin 737-21-1171, dated February 12, 2009.

(i) Credit for Previous Actions

(1) For Group 1 airplanes identified in Boeing Alert Service Bulletin 737-31A1332, Revision 1, dated June 24, 2010; except Groups 24, 25, and 27 through 33 airplanes identified in Boeing Alert Service Bulletin 737-31A1332, Revision 3, dated March 28, 2012: This paragraph provides credit for the corresponding actions required by paragraph (g) of this AD if those actions were performed before the effective date of this AD using Boeing Alert Service Bulletin 737-31A1332, Revision 1, dated June 24, 2010, which is not incorporated by reference.

(2) For airplanes identified in Boeing Alert Service Bulletin 737-31A1332, Revision 2, dated August 18, 2011; except airplanes identified in paragraph (i)(3) of this AD and Groups 24, 25, and 27 through 33 airplanes identified in Boeing Alert Service Bulletin 737-31A1332, Revision 3, dated March 28, 2012: This paragraph provides credit for the corresponding actions required by paragraph (g) of this AD if those actions were performed before the effective date of this AD using Boeing Alert Service Bulletin 737-31A1332, Revision 2, dated August 18, 2011, which is not incorporated by reference.

(3) For Group 21, Configuration 2 airplanes identified in Boeing Alert Service Bulletin 737-31A1332, Revision 3, dated March 28, 2012: This paragraph provides credit for the corresponding actions required by paragraph (g) of this AD if those actions were performed before the effective date of this AD using Boeing Alert Service Bulletin 737-31A1332, Revision 2, dated August 18, 2011, which is not incorporated by reference; and provided that Boeing Service Bulletin 737-21-1171, dated February 12, 2009, was accomplished prior to or concurrently with the actions in Boeing Alert Service Bulletin 737-31A1332, Revision 2, dated August 18, 2011.

(j) Airplane Flight Manual (AFM) Revisions

Within 36 months after the effective date of this AD, and after doing the installation required by paragraph (g) of this AD, do the actions specified in paragraphs (j)(1), (j)(2), and (j)(3) of this AD.

(1) Revise the Limitations Section of the applicable Boeing 737 AFM by doing the following action: Delete the “CABIN ALTITUDE WARNING TAKEOFF BRIEFING” added by AD 2008-23-07, Amendment 39-15728 (73 FR 66512, November 10, 2008).

(2) Revise the Non-Normal Procedures Section of the applicable Boeing 737 AFM by doing the actions specified in paragraphs (j)(2)(i), (j)(2)(ii), (j)(2)(iii), and (j)(2)(iv) of this AD.

(i) Delete the procedure titled “WARNING HORN—CABIN ALTITUDE OR CONFIGURATION” added by AD 2006-13-13, Amendment 39-14666 (71 FR 35781, June 22, 2006). If the title of this procedure has been changed according to FAA alternative method of compliance (AMOC) Letter 130S-09-134a, dated April 28, 2009, delete the procedure that was approved according to this AMOC letter.

(ii) Delete the procedure titled “CABIN ALTITUDE WARNING OR RAPID DEPRESSURIZATION” added by AD 2003-14-08, Amendment 39-13227 (68 FR 41519, July 14, 2003).

(iii) If the procedure titled “CABIN ALTITUDE (Airplanes with the CABIN ALTITUDE lights installed)” is currently contained in the applicable Boeing 737 AFM, delete the procedure titled “CABIN ALTITUDE (Airplanes with the CABIN ALTITUDE lights installed).”

(iv) Add the following statement. This may be done by inserting a copy of this AD into the applicable AFM.

“CABIN ALTITUDE WARNING OR RAPID DEPRESSURIZATION

Condition: The CABIN ALTITUDE warning light illuminates or the intermittent warning horn sounds in flight above 10,000 ft MSL.

RECALL
Oxygen Masks and Regulators | ON, 100%
Crew Communications | ESTABLISH
REFERENCE
Pressurization Mode Selector | MANUAL
Outflow Valve Switch | CLOSE
If Cabin Altitude is uncontrollable:
Emergency Descent (If Required) | INITIATE
Passenger Oxygen Switch | ON
Thrust Levers | CLOSE
Speed Brakes | FLIGHT DETENT
Target Speed | MO/MMO”

Note 1 to paragraphs (j)(2)(iv) and (j)(3)(ii) of this AD: When statements identical to those specified in paragraphs (j)(2)(iv) and (j)(3)(ii) of this AD have been included in the general revisions of the AFM, the general revisions may be inserted into the AFM, and the copies of this AD may be removed from the AFM.

(3) Revise the Normal Procedures Section of the applicable Boeing 737 AFM by doing the actions specified in paragraphs (j)(3)(i) and (j)(3)(ii) of this AD.

(i) Delete the procedure titled “CABIN ALTITUDE WARNING TAKEOFF BRIEFING” procedure added by AD 2008-23-07, Amendment 39-15728 (73 FR 66512, November 10, 2008).

(ii) Add the following statement. This may be done by inserting a copy of this AD into the applicable AFM.

For normal operations, the pressurization mode selector should be in AUTO prior to takeoff.

(k) Terminating Action for Affected ADs

Accomplishing the requirements of this AD terminates the requirements of the ADs identified in paragraphs (k)(1), (k)(2), and (k)(3) of this AD for only the airplanes identified in paragraph (c) of this AD.

(1) AD 2003-14-08, Amendment 39-13227 (68 FR 41519, July 14, 2003): The requirements specified in Table 1 and Figure 1 of that AD.

(2) AD 2006-13-13, Amendment 39-14666 (71 FR 35781, June 22, 2006): All requirements of that AD.

(3) AD 2008-23-07, Amendment 39-15728 (73 FR 66512, November 10, 2008): All requirements of that AD.

(l) Special Flight Permit

Special flight permits, as described in Section 21.197 and Section 21.199 of the Federal Aviation Regulations (14 CFR 21.197 and 21.199), are not allowed.

(m) Alternative Methods of Compliance (AMOCs)

(1) The Manager, Seattle ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(n) Related Information

(1) For more information about this AD, contact Jeffrey W. Palmer, Aerospace Engineer, Systems and Equipment Branch, ANM-130S, FAA, Seattle Aircraft Certification Office, 1601 Lind Avenue SW., Renton, Washington 98057-3356; phone: (425) 917-6472; fax: (425) 917-6590; email: jeffrey.w.palmer@faa.gov.

(2) For service information identified in this AD, contact Boeing Commercial Airplanes, Attention: Data & Services Management, P.O. Box 3707, MC 2H-65, Seattle, Washington 98124-2207; telephone 206-544-5000, extension 1, fax 206-766-5680; Internet https://www.myboeingfleet.com. You may review copies of the referenced service information at the FAA, Transport Airplane Directorate, 1601 Lind Avenue SW., Renton, Washington. For information on the availability of this material at the FAA, call 425-227-1221.

Issued in Renton, Washington, on August 10, 2012.
Ali Bahrami,
Manager, Transport Airplane Directorate, Aircraft Certification Service.

[FR Doc. 2012-20880 Filed 8-24-12; 8:45 am]

BILLING CODE 4910-13-P